DEPARTMENT OF ENERGY

Federal Energy Regulatory Commission

Notice of Filing

Take notice that the Commission has received the following Part 284 Natural Gas Pipeline Rate filings:

Filings Instituting Proceedings

Docket Number: PR19-45-002.

Applicants: EnLink LIG, LLC.

Description: Tariff filing per 284.123(b),(e)+(g): Amended Petition for Rate and SOC to be effective 6/19/2019; Filing Type: 1270.

Filed Date: 6/19/19.

Accession Number: 201906195070.

Comments Due: 5 p.m. ET 7/10/19.

284.123(g) Protests Due: 5 p.m. ET 7/10/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 20, 2019.
Nathaniel J. Davis, Sr.,
Deputy Secretary.

[FR Doc. 2019-13578 Filed 6-25-19; 8:45 am]

BILLING CODE 6717-01-P